DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons and aircraft that have been placed on OFAC's Specially Designated Nationals and Blocked Persons List based on OFAC's determination that one or more applicable legal criteria were satisfied. All property and interests in property subject to U.S. jurisdiction of these persons and this aircraft are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treasury.gov/ofac).

Notice of OFAC Action(s)

On September 25, 2018, OFAC determined that the property and interests in property subject to U.S. jurisdiction of the following persons and the following aircraft subject to U.S. jurisdiction are blocked under the relevant sanctions authorities listed below.

Individuals

1. FLORES DE MADURO, Cilia Adela (a.k.a. FLORES, Cilia), Capital District, Venezuela; DOB 15 Oct 1956; POB Tinaquillo, Cojedes, Venezuela; citizen Venezuela; Gender Female; Cedula No. 5315632 (Venezuela) (individual) [VENEZUELA].

Designated pursuant to section 1(a)(ii)(C) of Executive Order 13692 of March 8, 2015, “Blocking Property and Suspending Entry of Certain Persons Contributing to the Situation in Venezuela” (E.O. 13692), for being a current or former official of the Government of Venezuela.

2. PADRINO LOPEZ, Vladimir, Capital District, Venezuela; DOB 30 May 1963; nationality Venezuela; Gender Male; Cedula No. 6122963 (Venezuela) (individual) [VENEZUELA].

Designated pursuant to section 1(a)(ii)(C) of E.O. 13692 for being a current or former official of the Government of Venezuela.

3. PAREDES, Jose Omar, Miranda, Venezuela; DOB 22 Feb 1950; nationality Venezuela; citizen Venezuela; Gender Male; Cedula No. 3476436 (Venezuela); Passport D0503056 (Venezuela) expires 17 Oct 2011; alt. Passport 038031243 (Venezuela) expires 16 Sep 2015; alt. Passport 113210615 (Venezuela) expires 01 Feb 2020; Pilot License Number 2326384 (individual) [VENEZUELA] (Linked To: AVERUCA, C.A.).

Designated pursuant to section 1(a)(ii)(E) of E.O. 13692 for having acted or purported to act for or on behalf of, directly or indirectly, Averuca C.A., a person whose property and interests in property are blocked pursuant to E.O. 13692.

Also designated pursuant to section 1(a)(ii)(D) of E.O. 13692 for having materially assisted, sponsored, or provided financial, material, or technological support for, or goods or services to or in support of Averuca C.A., a person whose property and interests in property are blocked pursuant to E.O. 13692.

4. RODRIGUEZ GOMEZ, Delcy Eloina (a.k.a. RODRIGUEZ, Delcy), Capital District, Venezuela; DOB 18 May 1969; citizen Venezuela; Gender Female; Cedula No. 10353667 (Venezuela) (individual) [VENEZUELA].

Designated pursuant to section 1(a)(ii)(C) of E.O. 13692 for being a current or former official of the Government of Venezuela.

5. RODRIGUEZ GOMEZ, Jorge Jesus (a.k.a. JORGE J., Rodriguez Gomez; a.k.a. JORGE JESUS, Rodriguez Gomez; a.k.a. RODRIGUEZ GOMEZ, Jorge J; a.k.a. RODRIGUEZ, Jorge), El Valle, Libertador, Capital District, Venezuela; DOB 09 Nov 1965; citizen Venezuela; Gender Male; Cedula No. 6823952 (Venezuela) (individual) [VENEZUELA].

Designated pursuant to section 1(a)(ii)(C) of E.O. 13692 for being a current or former official of the Government of Venezuela.

6. SARRIA DIAZ, Edgar Alberto (a.k.a. SARRIA, Edgar Alberto; a.k.a. SARRIAS, Edgar), Miranda, Venezuela; DOB 24 Jan 1976; nationality Spain; alt. nationality Venezuela; citizen Venezuela; Gender Male; Cedula No. 11734796 (Venezuela); Passport 042347444 (Venezuela) expires 14 Feb 2016; alt. Passport D0422201 (Venezuela) expires 07 Sep 2011; Tax ID No. 26664550Y (Spain) (individual) [VENEZUELA] (Linked To: QUIANA TRADING LIMITED).

Designated pursuant to section 1(a)(ii)(E) of E.O. 13692 for having acted or purported to act for or on behalf of, directly or indirectly, Averuca C.A. and Quiana Trading Limited, persons whose property and interests in property are blocked pursuant to E.O. 13692.

Entities

1. AVERUCA, C.A. (a.k.a. AGENCIA VEHICULOS ESPECIALES RURALES Y URBANOS, C.A.), Calle Paris, Torre Global, Piso 5, Las Mercedes, Caracas, Venezuela [VENEZUELA] (Linked To: SARRIA DIAZ, Rafael Alfredo).

Designated pursuant to section 1(a)(ii)(E) of E.O. 13692 for being owned or controlled by, or having acted or purported to act for or on behalf of, directly or indirectly, SARRIA DIAZ, Rafael Alfredo, a person whose property and interests in property are blocked pursuant to E.O. 13692.

2. PANAZEATE SL, Calle Nou d'Octubre, 18-BJ, Valencia 46014, Spain; Calle Nou d'Octubre, 18 Bajo, Valencia 46014, Spain; Tax ID No. B98525348 (Spain) [VENEZUELA] (Linked To: SARRIA DIAZ, Edgar Alberto).

Designated pursuant to section 1(a)(ii)(E) of E.O. 13692 for being owned or controlled by SARRIA DIAZ, Edgar Alberto, a person whose property and interests in property are blocked pursuant to E.O. 13692.

3. QUIANA TRADING LIMITED (a.k.a. QUIANA TRADING LTD.), Virgin Islands, British [VENEZUELA] (Linked To: SARRIA DIAZ, Rafael Alfredo).

Designated pursuant to section 1(a)(ii)(E) of E.O. 13692 for being owned or controlled by, or having acted or purported to act for or on behalf of, directly or indirectly, SARRIA DIAZ, Rafael Alfredo, a person whose property and interests in property are blocked pursuant to E.O. 13692.

Aircraft

1. N488RC; Aircraft Model G200; Aircraft Manufacturer's Serial Number (MSN) 228; Aircraft Tail Number N488RC (aircraft) [VENEZUELA] (Linked To: SARRIA DIAZ, Rafael Alfredo).

Identified pursuant to E.O. 13692 as property in which SARRIA DIAZ, Rafael Alfredo, a person whose property and interests in property are blocked pursuant to E.O. 13692, has an interest.

Dated: September 25, 2018.
Andrea M. Gacki,
Director, Office of Foreign Assets Control.

[FR Doc. 2018-21591 Filed 10-3-18; 8:45 am]

BILLING CODE 4810-AL-P